DEPARTMENT OF THE INTERIOR

Fish and Wildlife Service

[FWS-R8-WSR-2010-N162; 80213-94210-0000; ABC Code: 7B]

Notice of Intent; Request for Comments on Adoption of the National Park Service's Wetland and Creek Restoration Final Environmental Impact Statement/Environmental Impact Report, Big Lagoon, Muir Beach, Marin County, CA

AGENCY: Fish and Wildlife Service, Interior.

ACTION: Notice of intent; request for comments.

SUMMARY: We, the U.S. Fish and Wildlife Service (Service), give notice of our intent to adopt the National Park Service's (NPS) existing final environmental impact statement/environmental impact report (EIS/EIR) for the Wetland and Creek Restoration at Big Lagoon, Muir Beach, California (project). We are considering approving a grant application by the California State Coastal Conservancy (CSCC) to assist with implementing restoration activities that have been identified and reviewed under the NPS' existing final EIS/EIR for the project. Based on our independent evaluation, adoption of the EIS/EIR would meet Department of Interior (DOI) and Service National Environmental Policy Act (NEPA) procedures and guidelines. In order to meet our NEPA requirements for approval of CSCC's grant application, we are recirculating the EIS/EIR for written public comment via this notice, in accordance with Service adoption requirements.

DATES: We must receive any written comments on or before October 20, 2010.

ADDRESSES: Send written comments to: Susan Detwiler, Chief, Wildlife and Sport Fish Restoration Program, Region 8—Pacific Southwest, U.S. Fish and Wildlife Service, 2800 Cottage Way, Room W-1729, Sacramento, CA 95825. The EIS/EIR and other documents mentioned below are available at http://parkplanning.nps.gov/documentsList.cfm?projectID=12126.

FOR FURTHER INFORMATION CONTACT: Justin Cutler, Grants Management Specialist, at the Sacramento address above; (916) 414-6457 (phone); e-mail: justin_cutler@fws.gov.

SUPPLEMENTARY INFORMATION: We are considering approving a grant application by CSCC to assist with implementing restoration activities that have been identified and reviewed under the NPS' existing final EIS/EIR for the project. We are recirculating the EIS/EIR for written public comment via this notice, in order to meet our National Environmental Policy Act (NEPA; 40 CFR 1506.6) requirements for approval of CSCC's grant application. Based on our independent evaluation, adoption of the EIS/EIR would meet Department of Interior (DOI) and Service NEPA procedures and guidelines. We encourage interested persons to review the EIS/EIR and submit written comments.

Availability of Documents

The EIS/EIR and other documents mentioned below are available at http://parkplanning.nps.gov/documentsList.cfm?projectID=12126. To the extent practicable, copies of the EIS/EIR and other relevant documents will be made available for public review in alternative formats. Please reach the point of contact mentioned above to request documents in alternative formats.

Location

The 38-acre project site is located at the mouth of Redwood Creek, in Golden Gate National Recreation Area, Marin County, California, approximate Longitude: −122.57 and Latitude: 37.86. The project area encompasses the Lower Redwood Creek riparian area and wetlands extending from just downstream of Highway 1 to the beach.

Background

The NPS and the County of Marin (County) jointly prepared the following three documents to meet their Federal and State requirements:

• December 2007, Wetland and Creek Restoration at Big Lagoon, Muir Beach, Marin County, Final Environmental Impact Statement/Environmental Impact Report, (EIS/EIR).

• March 2008, Amendment to the Final Environmental Impact Statement/Environmental Impact Report Wetland and Creek Restoration at Big Lagoon, Muir Beach (amendment).

• November 2008, Wetland and Creek Restoration at Big Lagoon, Muir Beach, Marin County Record of Decision, (ROD).

The CSCC then partnered with the NPS and the County to assist in obtaining funding for restoration activities of the project. CSCC has submitted a grant application to the Service requesting funds under the National Coastal Wetland Conservation Grant Program for habitat restoration activities. The specific purpose of CSCC's application is to restore Lower Redwood Creek to a self-sustaining functional ecosystem that will create habitat for populations of special status species, reduce flooding, and provide a compatible visitor experience. Other aspects of the project, such as public access and bridge construction, will be funded through other sources.

The EIS/EIR describes and evaluates four potential alternatives for improving and restoring the project area; No Action (Alternative 1), Creek Restoration (Alternative 2), Creek Restoration and Small Lagoon Restoration (Alternative 3), and Large Lagoon Restoration (Alternative 4), with Alternative 2 being the preferred alternative. Details of these alternatives and their environmental effects are described in the EIS/EIR.

The proposed Federal decision to approve and grant funds triggers the need for compliance with the NEPA. After an independent review, we find that the EIS/EIR and the ROD, adequately addresses appropriate alternatives and their environmental effects relative to the activities proposed to be funded by our grant. Based on an independent evaluation, the EIS/EIR would meet Department of Interior (DOI) and Service NEPA procedures and guidelines, and would be appropriate for adoption.

Public Review

We provide this notice under regulations implementing NEPA and invite the public to review the final EIS/EIR during the 30-day public comment period (see DATES). Before including your address, phone number, e-mail address, or other personal identifying information in your comment, you should be aware that your entire comment—including your personal identifying information—may be made publicly available at any time. While you can ask us in your comment to withhold your personal identifying information from public review, we cannot guarantee that we will be able to do so.

Conclusion

Based on the information summarized above, we intend to adopt the NPS's final EIS/EIR to fully comply with the regulations for implementing NEPA for the proposed Federal grant decision. After the close of the comment period, we anticipate the preparation and issuance of our Record of Decision to occur in the fall of 2010.

Dated: August 31, 2010.
Alexandra Pitts,
Regional Director, Region 8.

[FR Doc. 2010-23869 Filed 9-22-10; 8:45 am]

BILLING CODE 4310-55-P